DEPARTMENT OF HOMELAND SECURITY

Federal Emergency Management Agency

[Docket ID FEMA-2020-0002; Internal Agency Docket No. FEMA-B-2016]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Broomfield | City and County of Broomfield (19-08-0385P). | The Honorable Patrick Quinn, Mayor, City and County of Broomfield, 1 DesCombes Drive, Broomfield, CO 80020. | Engineering Department, 1 DesCombes Drive, Broomfield, CO 80020. | https://msc.fema.gov/portal/advanceSearch. | May 29, 2020 | 085073
Broomfield | City and County of Broomfield (19-08-0494P). | The Honorable Patrick Quinn, Mayor, City and County of Broomfield, 1 DesCombes Drive, Broomfield, CO 80020. | Engineering Department, 1 DesCombes Drive, Broomfield, CO 80020. | https://msc.fema.gov/portal/advanceSearch. | May 22, 2020 | 085073
El Paso | City of Colorado Springs (19-08-0605P). | The Honorable John Suthers, Mayor, City of Colorado Springs, 30 South Nevada Avenue, Suite 601, Colorado Springs, CO 80903. | Pikes Peak Regional Development, 2880 International Circle, Colorado Springs, CO 80910. | https://msc.fema.gov/portal/advanceSearch. | May 4, 2020 | 080060
El Paso | Unincorporated areas of El Paso County (19-08-0605P). | The Honorable Mark Waller, President, El Paso County Board of Commissioners, 200 South Cascade Avenue, Suite 100, Colorado Springs, CO 80903. | Pikes Peak Regional Development, 2880 International Circle, Colorado Springs, CO 80910. | https://msc.fema.gov/portal/advanceSearch. | May 4, 2020 | 080059
Jefferson | City of Westminster (19-08-0494P). | The Honorable Herb Atchison, Mayor, City of Westminster, 4800 West 92nd Avenue, Westminster, CO 80031. | City Hall, 4800 West 92nd Avenue, Westminster, CO 80031. | https://msc.fema.gov/portal/advanceSearch. | May 22, 2020 | 080008
Connecticut:
Fairfield | Town of Darien (19-01-1081P). | The Honorable Jayme J. Stevenson, First Selectman, Town of Darien Board of Selectmen, 2 Renshaw Road, Room 202, Darien, CT 06820. | Planning and Zoning Department, 2 Renshaw Road, Darien, CT 06820. | https://msc.fema.gov/portal/advanceSearch. | May 1, 2020 | 090005
New Haven | Town of Cheshire (20-01-0003P). | The Honorable Rob Oris, Jr., Chairman, Town of Cheshire Council, 84 South Main Street, Cheshire, CT 06410. | Town Hall, 84 South Main Street, Cheshire, CT 06410. | https://msc.fema.gov/portal/advanceSearch. | May 15, 2020 | 090074
Florida: Wakulla | Unincorporated areas of Wakulla County (19-04-3034P). | The Honorable Mike Stewart, Chairman, Wakulla County Board of Commissioners, 3093 Crawfordville Highway, Crawfordville, FL 32327. | Wakulla County Planning and Community Development Department, 3093 Crawfordville Highway, Crawfordville, FL 32327. | https://msc.fema.gov/portal/advanceSearch. | Jun. 5, 2020 | 120315
Georgia: Cherokee | Unincorporated areas of Cherokee County (19-04-4793P). | The Honorable Harry Johnston, Chairman, Cherokee County Board of Commissioners, 1130 Bluffs Parkway, Canton, GA 30114. | Cherokee County Engineering Department, 1130 Bluffs Parkway, Canton, GA 30114. | https://msc.fema.gov/portal/advanceSearch. | May 15, 2020 | 130424
Kentucky:
Fayette | Lexington-Fayette Urban County, Government (19-04-4057P). | The Honorable Linda Gorton, Mayor, Lexington-Fayette Urban County, Government, 200 East Main Street, Lexington, KY 40507. | Lexington-Fayette Urban County Government Center, 101 East Vine Street, Lexington, KY 40507. | https://msc.fema.gov/portal/advanceSearch. | Apr. 16, 2020 | 210067
Pulaski | Unincorporated areas of Pulaski County (19-04-3595P). | The Honorable Steve Kelley, Pulaski County Judge, 100 North Main Street, Suite 202, Somerset, KY 42501. | Pulaski County Courthouse, 100 North Main Street, Somerset, KY 42501. | https://msc.fema.gov/portal/advanceSearch. | Apr. 17, 2020 | 210197
Massachusetts: Essex | Town of Nahant (19-01-1429P). | The Honorable Richard Lombard, Chairman, Town of Nahant Board of Selectmen, 334 Nahant Road, Nahant, MA 01908. | Public Works Department, 334 Nahant Road, Nahant, MA 01908. | https://msc.fema.gov/portal/advanceSearch. | May 12, 2020 | 250095
Michigan: Washtenaw | City of Ann Arbor (19-05-2230P). | The Honorable Christopher Taylor, Mayor, City of Ann Arbor, 301 East Huron Street, Ann Arbor, MI 48107. | City Hall, 301 East Huron Street, Ann Arbor, MI 48107. | https://msc.fema.gov/portal/advanceSearch. | May 22, 2020 | 260213
New Mexico: Santa Fe | City of Santa Fe (19-06-2643P). | The Honorable Alan Webber, Mayor, City of Santa Fe, 200 Lincoln Avenue, Santa Fe, NM 87504. | Building Permits Department, 200 Lincoln Avenue, Santa Fe, NM 87504. | https://msc.fema.gov/portal/advanceSearch. | May 20, 2020 | 350070
North Carolina:
Cumberland | City of Fayetteville (19-04-2019P). | The Honorable Mitch Colvin, Mayor, City of Fayetteville, 433 Hay Street, Fayetteville, NC 28301. | Planning and Zoning Division, 433 Hay Street, Fayetteville, NC 28301. | https://msc.fema.gov/portal/advanceSearch. | Feb. 25, 2020 | 370077
Martin | Town of Williamston (19-04-2709P). | The Honorable Joyce Whichard-Brown, Mayor, Town of Williamston, P.O. Box 506, Williamston, NC 27892. | Planning and Zoning Department, 102 East Main Street, Williamston, NC 27892. | https://msc.fema.gov/portal/advanceSearch. | May 14, 2020 | 370157
Oklahoma: Canadian | City of El Reno (19-06-2199P). | The Honorable Matt White, Mayor, City of El Reno, P.O. Drawer 700, El Reno, OK 73036. | City Hall, 101 North Choctaw Avenue, El Reno, OK 73036. | https://msc.fema.gov/portal/advanceSearch. | May 14, 2020 | 405377
Pennsylvania: Chester | Township of West Goshen (19-03-1653P). | Mr. Casey LaLonde, Township of West Goshen Manager, 1025 Paoli Pike, West Chester, PA 19380. | Township Hall, 1025 Paoli Pike, West Chester, PA 19380. | https://msc.fema.gov/portal/advanceSearch. | Jun. 8, 2020 | 420293
South Carolina: Georgetown | Unincorporated areas of Georgetown County (19-04-6326P). | Mr. Sel Hemingway, Georgetown County Administrator, 716 Prince Street, Georgetown, SC 29440. | Georgetown County, Building Department, 129 Screven Street, Georgetown, SC 29440. | https://msc.fema.gov/portal/advanceSearch. | Jun. 4, 2020 | 450085
Tennessee:
Shelby | Town of Collierville (19-04-7494P). | The Honorable Stan Joyner, Jr., Mayor, Town of Collierville, 500 Poplar View Parkway, Collierville, TN 38017. | Department of Public Services, 500 Keough Road, Collierville, TN 38017. | https://msc.fema.gov/portal/advanceSearch. | May 8, 2020 | 470263
Shelby | Unincorporated areas of Shelby County (18-04-7494P). | The Honorable Lee Harris, Mayor, Shelby County, 160 North Main Street, Memphis, TN 38103. | Shelby County Department of Engineering, 6463 Haley Road, Memphis, TN 38134. | https://msc.fema.gov/portal/advanceSearch. | May 8, 2020 | 470214
Texas:
Bexar | City of San Antonio (19-06-1775P). | The Honorable Ron Nirenberg, Mayor, City of San Antonio, P.O. Box 839966, San Antonio, TX 78283. | Transportation and Capitol Improvements Department, Storm Water Division, 114 West Commerce Street, 7th Floor, San Antonio, TX 78205. | https://msc.fema.gov/portal/advanceSearch. | May 11, 2020 | 480045
Bexar | City of San Antonio (19-06-3807P). | The Honorable Ron Nirenberg, Mayor, City of San Antonio, P.O. Box 839966, San Antonio, TX 78283. | Transportation and Capitol Improvements Department, Storm Water Division, 114 West Commerce Street, 7th Floor, San Antonio, TX 78205. | https://msc.fema.gov/portal/advanceSearch. | Apr. 13, 2020 | 480045
Bexar | Unincorporated areas of Bexar County (19-06-3807P). | The Honorable Nelson W. Wolff, Bexar County Judge, 101 West Nueva Street, 10th Floor, San Antonio, TX 78205. | Bexar County Public Works Department, 1948 Probandt Street, San Antonio, TX 78214. | https://msc.fema.gov/portal/advanceSearch. | Apr. 13, 2020 | 480035
McLennan | City of McGregor (19-06-1286P). | The Honorable James S. Hering, Mayor, City of McGregor, 302 South Madison Avenue, McGregor, TX 76657. | City Hall, 302 South Madison Avenue, McGregor, TX 76657. | https://msc.fema.gov/portal/advanceSearch. | May 19, 2020 | 480459
McLennan | Unincorporated areas of McLennan County (19-06-1286P). | The Honorable Scott M. Felton, McLennan County Judge, 501 Washington Avenue, Suite 214, Waco, TX 76701. | McLennan County Engineering and Mapping Department, 215 North 5th Street, Suite 130, Waco, TX 76701. | https://msc.fema.gov/portal/advanceSearch. | May 19, 2020 | 480456
Tarrant | City of Fort Worth (19-06-2910P). | The Honorable Betsy Price, Mayor, City of Fort Worth, 200 Texas Street, Fort Worth, TX 76102. | Transportation and Public Works Department, 200 Texas Street, Fort Worth, TX 76102. | https://msc.fema.gov/portal/advanceSearch. | May 18, 2020 | 480596
Travis | City of Manor (19-06-2660P). | The Honorable Larry Wallace, Jr., Mayor, City of Manor, P.O. Box 387, Manor, TX 78653. | City Hall, 105 East Eggleston Street, Manor, TX 78653. | https://msc.fema.gov/portal/advanceSearch. | Jun. 1, 2020 | 481027
Travis | Unincorporated areas of Travis County (19-06-2660P). | The Honorable Sarah Eckhardt, Travis County Judge, P.O. Box 1748, Austin, TX 78767. | Travis County Transportation and Natural Resources Department, 700 Lavaca Street, 5th Floor, Austin, TX 78701. | https://msc.fema.gov/portal/advanceSearch. | Jun. 1, 2020 | 481026
Utah:
Wasatch | Town of Wallsburg (19-08-0779P). | The Honorable Celeni Richins, Mayor, Town of Wallsburg, 70 West Main Street, Wallsburg, UT 84082. | Town Hall, 70 West Main Street, Wallsburg, UT 84082. | https://msc.fema.gov/portal/advanceSearch. | May 28, 2020 | 490168
Wasatch | Unincorporated areas of Wasatch County (19-08-0779P). | Mr. Mike Davis, Wasatch County Manager, 25 North Main Street, Heber City, UT 84032. | Wasatch County Community Services Department, 55 South 500 East, Heber City, UT 84032. | https://msc.fema.gov/portal/advanceSearch. | May 28, 2020 | 490164

[FR Doc. 2020-05148 Filed 3-12-20; 8:45 am]

BILLING CODE 9110-12-P